NATIONAL SCIENCE FOUNDATION

Advisory Committee for Mathematical and Physical Sciences; Notice of Meeting

In accordance with Federal Advisory Committee Act (Pub. L. 92-463, as amended), the National Science Foundation announces the following meeting:

Name: Advisory Committee for Mathematical and Physical Sciences (#66).

Date/Time: January 14, 2014: 1:00 p.m. to 5:00 p.m.

Place: National Science Foundation, 4201 Wilson Boulevard, Suite 1235, Arlington, Virginia 22230.

To help facilitate your entry into the building, contact Caleb Autrey (cautery@nsf.gov). Your request should be received on or prior to January 9, 2013.

To attend virtually via WebEx video: the phone-in number is: 1-866-844-9416 (operator password: mpsac) The web address is: https://nsf.webex.com/nsf/j.php?ED=33883333&UID=501830907&PW=NNTVkZWU1MjAx&RT=MiMxMQ%3D%3D.

Operated Assisted teleconference service is available for this meeting. Call 1-888-393-0286. (password: mpsac). You will be connected to the audio portion of the meeting.

Type of Meeting: Open.

Contact Person: Kelsey Cook, National Science Foundation, 4201 Wilson Boulevard, Suite 1005, Arlington, Virginia 22230, 703-292-7490 AND Caleb Autrey, National Science Foundation, 4201 Wilson Boulevard, Suite 1005, Arlington, Virginia 22230, 703-292-5137.

Minutes: Meeting minutes and other information may be obtained from the Staff Associate and MPSAC Designated Federal Officer at the above address or the Web site at http://www.nsf.gov/mps/advisory.jsp.

Purpose of Meeting: To study data, programs, policies, and other information pertinent to the National Science Foundation and to provide advice and recommendations concerning research in mathematics and physical sciences.

Agenda

State of the Directorate for Mathematical and Physical Sciences (MPS): Challenges for the OAD.

Report from the StatsNSF Subcommittee.

Update from Subcommittee on Optics and Photonics.

Report on CHE Virtual Panels (preparatory to broader discussion of merit review in April).

BRAIN initiative.

Planning for April joint session with ACCI, and other April topics.

Dated: December 31, 2013.
Susanne Bolton,
Committee Management Officer.

[FR Doc. 2013-31524 Filed 1-3-14; 8:45 am]

BILLING CODE 7555-01-P